DEPARTMENT OF THE INTERIOR

National Park Service

[NPS-WASO-NAGPRA-NPS0035041; PPWOCRADN0-PCU00RP14.R50000]

Notice of Inventory Completion Amendment: Museum of Us, San Diego, CA

AGENCY: National Park Service, Interior.

ACTION: Notice; amendment.

SUMMARY: In accordance with the Native American Graves Protection and Repatriation Act (NAGPRA), the Museum of Us (formerly the San Diego Museum of Man) has amended a Notice of Inventory Completion published in the Federal Register on May 3, 2019. This notice amends the minimum number of individuals and the number of associated funerary objects listed in the previous notice, as well as their cultural affiliation in a collection removed from San Diego County, CA.

DATES: Repatriation of the human remains and associated funerary objects in this notice may occur on or after January 19, 2023.

FOR FURTHER INFORMATION CONTACT: Carmen Mosley, NAGPRA Repatriation Manager, Museum of Us, 1350 El Prado, Balboa Park, San Diego, CA 92101, telephone (619) 239-2001 Ext. 42, email cmosley@museumofus.org.

SUPPLEMENTARY INFORMATION: This notice is published as part of the National Park Service's administrative responsibilities under NAGPRA. The determinations in this notice are the sole responsibility of the Museum of Us. The National Park Service is not responsible for the determinations in this notice. Additional information on the amendments and determinations in this notice, including the results of consultation, can be found in the inventory or related records held by the Museum of Us.

Amendment

This notice amends the determinations published in a Notice of Inventory Completion in the Federal Register (84 FR 19109-19111, May 3, 2019). Repatriation of the items in the original Notice of Inventory Completion has not occurred. This notice amends the counts of the minimum number of individuals and number of associated funerary objects, and the cultural affiliation as listed in the original notice. Human remains representing, at minimum, one additional individual, and 18 additional associated funerary objects were added to the inventory from the site cluster complex CA-SDI-149 & CA-SDI-4935A (W-198 & W-186), located east of Rancho Santa Fe, near the south bank of the San Dieguito River in San Diego County, CA. One additional associated funerary object was added to the inventory from a location near Fox Point (Woodley), now Leucadia Boulevard, in Carlsbad, San Diego County, CA. Five additional Indian Tribes are determined to be culturally affiliated with the human remains and associated funerary objects listed in this amended notice.

Human Remains
Site | Original number of individuals | Amended number of individuals
Site cluster complex: CA-SDI-149 & CA-SDI-4935A (W-198 and W-186, respectively) in San Diego County, CA | 3 | 4

Associated Funerary Objects
Site | Original number | Amended number | Amended description
Unknown location near Fox Point (Woodley), which is now Leucadia Boulevard, in Carlsbad, San Diego County CA | 20 | 21 | one soil sample, five ecofacts, one lot of unmodified shell, one unmodified shell, three chipped stone core tools, two utilized flakes, two chipped stone unworked flakes, three chipped stone scrapers, one metate, one groundstone with asphaltum, and one mano fragment.
Site cluster complex: CA-SDI-149 & CA-SDI-4935A (W-198 and W-186, respectively) in San Diego County, CA | 2,713 | 2,731 | one lot of mixed and human faunal bones, one modified faunal bone, 63 unmodified faunal bones, 60 lots of faunal bone, two undecorated ceramic body sherds, 17 lots of undecorated body sherds, five undecorated ceramic rim sherds, three lots of undecorated ceramic rim sherds, 94 chipped stone biface tools, 61 chipped stone choppers, 40 chipped stone cores, 28 chipped stone core tools, one stone drill, two stone crescents, 15 projectile points, 174 stone scrapers, 947 unworked flakes, 633 lots of unworked flakes, 71 utilized flakes, 23 lots of utilized flakes, 30 manos, five metates, 16 historic ceramic sherds, seven lots of historic ceramic sherds, 28 fragments of historic glass, 35 lots of historic glass fragments, one metal clover ornament, one metal earring, one metal pig figurine, 71 lots of metal including nails, bail bearings, pins, buttons, bullets and various fragments; one spoon, three lots of wood, one lot of brick fragments, 11 lots of charcoal, two lots of plastic, four lots of leather sole fragments, six lots of seeds, one lot of pieces of rubber, 11 ecofacts, seven lots of ecofacts, one lot of red ochre, one modified shell, 23 unmodified shells, 51 lots of unmodified shell, 98 lots of soil, 38 pollen samples, 29 hammerstones, six battered stones, and one fire affected stone.

Determinations (as Amended)

Pursuant to NAGPRA and its implementing regulations, and after consultation with the appropriate Indian Tribes and Native Hawaiian organizations, the Museum of Us has determined that:

• The human remains described in this amended notice represent the physical remains of 17 individuals of Native American ancestry.

• The 3,528 objects described in this amended notice are reasonably believed to have been placed with or near individual human remains at the time of death or later as part of the death rite or ceremony.

• There is a relationship of shared group identity that can be reasonably traced between the human remains and associated funerary objects described in this notice and Campo Band of Diegueno Mission Indians of the Campo Indian Reservation, California; Capitan Grande Band of Diegueno Mission Indians of California (Barona Group of Captain Grande Band of Mission Indians of the Barona Reservation, California; Viejas (Baron Long) Group of Capitan Grande Band of Mission Indians of the Viejas Reservation, California); Ewiiaapaayp Band of Kumeyaay Indians, California; Iipay Nation of Santa Ysabel, California (previously listed as Santa Ysabel Band of Diegueno Mission Indians of the Santa Ysabel Reservation); Inaja Band of Diegueno Mission Indians of the Inaja and Cosmit Reservation, California; Jamul Indian Village of California; La Jolla Band of Luiseno Indians, California (previously listed as La Jolla Band of Luiseno Mission Indians of the La Jolla Reservation); La Posta Band of Diegueno Mission Indians of the La Posta Indian Reservation, California; Manzanita Band of Diegueno Mission Indians of the Manzanita Reservation, California; Mesa Grande Band of Diegueno Mission Indians of the Mesa Grande Reservation, California; Pala Band of Mission Indians (previously listed as Pala Band of Luiseno Mission Indians of the Pala Reservation, California); Pauma Band of Luiseno Mission Indians of the Pauma & Yuima Reservation, California; Pechanga Band of Indians (previously listed as Pechanga Band of Luiseno Mission Indians of the Pechanga Reservation, California); Rincon Band of Luiseno Mission Indians of Rincon Reservation, California; San Pasqual Band of Diegueno Mission Indians of California; Soboba Band of Luiseno Indians, California; and the Sycuan Band of the Kumeyaay Nation.

Requests for Repatriation

Written requests for repatriation of the human remains and associated funerary objects in this notice must be sent to the Responsible Official identified in the FOR FURTHER INFORMATION CONTACT section. Requests for repatriation may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 19, 2023. If competing requests for repatriation are received, the Museum of Us must determine the most appropriate requestor prior to repatriation. Requests for joint repatriation of the human remains and associated funerary objects are considered a single request and not competing requests. The Museum of Us is responsible for sending a copy of this notice to the Indian Tribes identified in this notice.

Authority: Native American Graves Protection and Repatriation Act, 25 U.S.C. 3003, and the implementing regulations, 43 CFR 10.9, 10.10, 10.13, and 10.14.

Dated: December 13, 2022.
Melanie O'Brien,
Manager, National NAGPRA Program.

[FR Doc. 2022-27526 Filed 12-19-22; 8:45 am]

BILLING CODE 4312-52-P